ENVIRONMENTAL PROTECTION AGENCY

40 CFR Part 271

[EPA-R04-RCRA-2021-0229; FRL-10021-98-Region 4]

Georgia: Final Authorization of State Hazardous Waste Management Program Revisions

AGENCY: Environmental Protection Agency (EPA).

ACTION: Proposed rule.

SUMMARY: The Environmental Protection Agency (EPA) is proposing to authorize changes to Georgia's hazardous waste program under the Resource Conservation and Recovery Act (RCRA). These changes were outlined in an application to the EPA and correspond to certain Federal rules promulgated between July 1, 2004 and June 30, 2020. The EPA reviewed Georgia's application and has determined that these changes satisfy all requirements needed to qualify for final authorization. Therefore, in the “Rules and Regulations” section of this Federal Register, we are authorizing Georgia for these changes as a direct final rule without a prior proposed rule. If we receive no adverse comment, we will not take further action on this proposed rule.

DATES: Comments must be received on or before May 27, 2021.

ADDRESSES: Submit your comments, identified by Docket ID No. EPA-R04-RCRA-2021-0229, at https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www.epa.gov/dockets/commenting-epa-dockets.

The EPA encourages electronic submittals, but if you are unable to submit electronically or need other assistance, please contact Kelly Adams, the contact listed in the

provision below. Please also contact Kelly Adams if you need assistance in a language other than English or if you are a person with disabilities who needs a reasonable accommodation at no cost to you.

All documents in the docket are listed in the www.regulations.gov index. Publicly available docket materials are available electronically in www.regulations.gov. For alternative access to docket materials, please contact Kelly Adams, the contact listed in the FOR FURTHER INFORMATION CONTACT provision below.

FOR FURTHER INFORMATION CONTACT: Kelly Adams; RCRA Programs and Cleanup Branch; Land, Chemicals and Redevelopment Division; U.S. Environmental Protection Agency; Atlanta Federal Center, 61 Forsyth Street SW, Atlanta, Georgia 30303-8960; telephone number: (404) 562-8431; fax number: (404) 562-9964; email address: adams.kelly@epa.gov.

SUPPLEMENTARY INFORMATION: This document proposes to take action on Georgia's changes to its hazardous waste management program under the Resource Conservation and Recovery Act (RCRA), as amended. We have published a direct final rule authorizing these changes in the “Rules and Regulations” section of this Federal Register because we view this as a noncontroversial action and anticipate no adverse comment. We have explained our reasons for this action in the preamble to the direct final rule.

If we receive no adverse comment, we will not take further action on this proposed rule. If we receive adverse comment, we will withdraw the direct final rule and it will not take effect. We would then address all public comments in a subsequent final rule and base any further decision on the authorization of the State program changes after considering all comments received during the comment period.

We do not intend to institute a second comment period on this action. Any parties interested in commenting must do so at this time. For further information, please see the information provided in the ADDRESSES section of this document.

Dated: April 20, 2021.
John Blevins,
Acting Regional Administrator, Region 4.

[FR Doc. 2021-08762 Filed 4-26-21; 8:45 am]

BILLING CODE 6560-50-P